DEPARTMENT OF AGRICULTURE

Animal and Plant Health Inspection Service

[Docket No. APHIS-2021-0078]

Notice of Proposed Revision to Requirements for the Importation of Grapes From Chile Into the United States

AGENCY: Animal and Plant Health Inspection Service, USDA.

ACTION: Notice of availability; extension of comment period.

SUMMARY: We are extending the comment period for a notice of availability of a pest risk assessment and a commodity import evaluation document that we have prepared relative to the importation into the United States of fresh table grapes from regions of Chile where European grapevine moth (Lobesia botrana) is either absent or at very low prevalence. This action will allow interested persons additional time to prepare and submit comments.

DATES: The comment period for the notice published on October 17, 2022 (87 FR 62783-62784) is extended. We will consider all comments that we receive on or before January 17, 2023.

ADDRESSES: You may submit comments by either of the following methods:

• Federal eRulemaking Portal: Go to www.regulations.gov. Enter APHIS-2021-0078 in the Search field. Select the Documents tab, then select the Comment button in the list of documents.

• Postal Mail/Commercial Delivery: Send your comment to Docket No. APHIS-2021-0078, Regulatory Analysis and Development, PPD, APHIS, Station 3A-03.8, 4700 River Road, Unit 118, Riverdale, MD 20737-1238.

Supporting documents and any comments we receive on this docket may be viewed at www.regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Claudia Ferguson, Senior Regulatory Policy Specialist, RCC, IRM, PPQ, APHIS, 4700 River Road, Unit 133, Riverdale, MD 20737-1236; (301) 851-2353; Claudia.Ferguson@usda.gov.

SUPPLEMENTARY INFORMATION:

Background

On October 17, 2022, we published in the Federal Register (87 FR 62783-62784, Docket No. APHIS-2021-0078) a notice announcing the availability of a pest risk assessment and a commodity import evaluation document (CIED) relative to the importation into the United States of fresh table grapes from regions of Chile where European grapevine moth (Lobesia botrana, or EGVM) is either absent or at very low prevalence. Chile grapes are currently subject to methyl bromide fumigation for EGVM and Chilean false red mite (Brevipalpus chilensis). Based on the pest risk assessment and the findings of the CIED, we are also proposing to authorize the importation of grapes from Chile under a systems approach or irradiation for EGVM and B. chilensis; current mitigation measures for Ceratitis capitata, or Medfly, would remain unchanged.

Comments on the notice were required to be received on or before December 16, 2022. We are extending the comment period on Docket No. APHIS-2021-0078 until January 17, 2023. This action will allow interested persons additional time to prepare and submit comments.

Authority: 7 U.S.C. 1633, 7701-7772, and 7781-7786; 21 U.S.C. 136 and 136a; 7 CFR 2.22, 2.80, and 371.3.

Done in Washington, DC, this 7th day of December 2022.
Anthony Shea,
Administrator, Animal and Plant Health Inspection Service.

[FR Doc. 2022-26966 Filed 12-12-22; 8:45 am]

BILLING CODE 3410-34-P